DEPARTMENT OF HEALTH AND HUMAN SERVICES

Centers for Disease Control and Prevention

[60Day-10-0739]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Oral Health Management Information System (OMB No. 0920-0739 exp. 6/30/2010)—Revision—Division of Oral Health, National Center for Chronic Disease Prevention and Health Promotion (NCCDPHP), Centers for Disease Control and Prevention (CDC).

Background and Brief Description

The CDC seeks to improve the oral health of the Nation by targeting efforts to improve the infrastructure of State and territorial oral health departments, strengthening and enhancing program capacity related to monitoring the population's oral health status and behaviors, developing effective programs to improve the oral health of children and adults, evaluating program accomplishments, and informing key stakeholders, including policy makers, of program results. Through a cooperative agreement program, CDC provides funding to oral health programs in states and territories. Funding is used to strengthen the states' core oral health infrastructure and capacity and to reduce health disparities among high-risk groups.

The CDC collects information from State- and territory-based awardees to support oral health program management, consulting and evaluation. Information is submitted through and stored in an electronic management information system (MIS), which provides a central, standardized and searchable repository of information about the awardee's objectives, programmatic activities, performance indicators, and financial status. The MIS increases the efficiency and consistency with which applications, budgets, and reports are prepared and reviewed; facilitates program evaluation; reduces data/information redundancy by integrating existing information from other sources; and improves accountability to management officials, funders, and stakeholders. The MIS also allows CDC staff to record information related to technical assistance, consultative plans, communication and site visits, thus improving the effectiveness and timeliness of technical assistance and communication between CDC and oral health programs. Finally, the reporting functions of the MIS facilitate rapid retrieval of information and summary reports, allowing CDC and awardees to respond to time-sensitive inquiries in a timely fashion and to make programmatic decisions in a more efficient, informed manner.

The information collected in the oral health MIS facilitates CDC staff's ability to fulfill its obligations under the cooperative agreement; to monitor, evaluate, and compare individual programs; and to assess and report aggregate information regarding the overall effectiveness of the oral health infrastructure and capacity at the state and territorial level. It supports CDC's broader mission of reducing oral health disparities by enabling CDC staff to more effectively identify the strengths and weaknesses of individual state and territorial oral health programs; to identify national progress toward reaching the goals of Healthy People 2010; and to disseminate information related to successful public health interventions implemented by state and territorial programs to prevent and control the burden of oral diseases.

Information will be collected electronically twice per year. No changes to the MIS or the estimated burden per response are proposed. There is a small increase in the total estimated annualized burden due to the addition of one new CDC-funded oral health program. There are no costs to respondents other than their time.

Estimated Annualized Burden Hours
Type of respondents | Number of respondents | Number of responses per respondent | Average burden per response (in hours) | Total burden (in hours)
State Oral Health Programs | 16 | 2 | 11 | 352

Dated: December 8, 2009.
Maryam I. Daneshvar,
Acting Reports Clearance Officer, Centers for Disease Control and Prevention.

[FR Doc. E9-29972 Filed 12-16-09; 8:45 am]

BILLING CODE 4163-18-P